DEPARTMENT OF DEFENSE

Department of the Navy

Extension of Public Comment Period for the Draft Environmental Impact Statement for U.S. Navy F-35C West Coast Homebasing

AGENCY: Department of the Navy, DoD.

ACTION: Notice.

SUMMARY: A Notice of Availability for the Department of the Navy's (DoN) Draft Environmental Impact Statement (EIS) for the U.S. Navy F-35C West Coast Homebasing was published in the Federal Register by the U.S. Environmental Protection Agency on February 15, 2013 (78 FR 11171). The public review period ends on April 22, 2013. This notice announces an extension of the public comment period until May 7, 2013.

FOR FURTHER INFORMATION CONTACT: Naval Facilities Engineering Command Southwest, Attn: Code EV21.AK (F-35C EIS Project Manager), 1220 Pacific Highway, Building 1, 5th Floor, San Diego, CA 92132.

SUPPLEMENTARY INFORMATION: This notice announces an extension of the public comment period until May 7, 2013. Comments may be submitted in writing to Naval Facilities Engineering Command Southwest, Attn: Code EV21.AK (F-35C EIS Project Manager), 1220 Pacific Highway, Building 1, 5th Floor, San Diego, CA 92132 or electronically via the project Web site (www.navyf35cwestcoasteis.com). All written comments must be postmarked or received (online) by May 7, 2013, to ensure they become part of the official record. All comments will be addressed in the Final EIS.

A copy of the Draft EIS (with the Draft Clean Air Act Conformity Determination) is available for electronic viewing or download at www.navyf35cwestcoasteis.com. In addition, paper copies of the Draft EIS are available for public review at the following libraries:

1. City of El Centro Public Library, 1140 North Imperial Avenue, El Centro, California 92243.

2. City of Imperial Public Library, 200 West 9th Street, Imperial, California 92251.

3. Imperial County Free Library, Holtville Branch, 101 East 6th Street, Holtville, California 92250.

4. Imperial County Free Library, Heber Branch, 1078 Dogwood Road, Heber, California 92257.

5. Imperial County Free Library, Seeley Library Services provided at the Seeley Community Church, 1774 West Rio Vista Street, Seeley, California 92243.

6. Kings County Library, Lemoore Branch, 457 C Street, Lemoore, California 93245.

7. Kings County Library, Hanford Branch, 401 North Douty Street, Hanford, California 93230.

8. Fresno County Public Library, Central Library, 2420 Mariposa Street, Fresno, California 93721.

9. Fresno County Public Library, Riverdale Branch Library, 20975 Malsbary Avenue, Riverdale, California 93656.

10. West Hills College Lemoore Library, 555 College Avenue, Lemoore, California 93245.

Dated: April 8, 2013.
C.K. Chiappetta,
Lieutenant Commander, Office of the Judge Advocate General, U.S. Navy, Federal Register Liaison Officer.

[FR Doc. 2013-09207 Filed 4-18-13; 8:45 am]

BILLING CODE 3810-FF-P